ENVIRONMENTAL PROTECTION AGENCY

[FRL-8716-7]

Coastal Elevations and Sea Level Rise Advisory Committee Meeting

AGENCY: Environmental Protection Agency (EPA).

ACTION: Notice of meeting.

SUMMARY: Under the Federal Advisory Committee Act (Pub. L. 92-463), EPA gives notice of a public meeting of the Coastal Elevations and Sea Level Rise Advisory Committee (CESLAC).

DATES: The meeting will be held on Thursday, October 16, 2008, from 9 a.m. to 5 p.m., although the meeting may be adjourned prior to this time if the committee has completed its business. Registration will begin at 8:30 a.m.

ADDRESSES: The meeting will be held at the Crowne Plaza Washington National Airport Hotel, 1480 Crystal Drive, Arlington, Virginia 22202.

FOR FURTHER INFORMATION CONTACT: Jack Fitzgerald, Designated Federal Officer, Climate Change Division, Mail Code 6207J, Office of Atmospheric Programs, Environmental Protection Agency, 1200 Pennsylvania Avenue, NW., Washington, DC 20460; e-mail address: Fitzgerald.jack@epa.gov, telephone number (202) 343-9336, fax: (202) 343-2337.

SUPPLEMENTARY INFORMATION: The purpose of CESLAC is to provide advice on a study titled Coastal Elevations and Sensitivity to Sea Level Rise being conducted as part of the U.S. Climate Change Science Program (CCSP). A copy of the study prospectus is available at http://www.climatescience.gov/Library/sap/sap4-1/default.php. A copy of the Committee Charter is available at http://www.fido.gov/facadatabase/. The meeting will focus on consideration of Chapter 1 of the study as well as CESLAC's final report. Materials that will be considered in the meeting may be found at http://www.environmentalinformation.net/CESLAC/ approximately two weeks before the meeting. If a printed copy of the material is needed, please contact Ms. Nicole Kalas by: (1) E-mail at NKalas@stratusconsulting.com; (2) phone at (202) 466-3731, ext. 239; 3) mail at Stratus Consulting, 1920 L St., NW., Suite 420, Washington, DC 20036. Based on the extent of public participation in previous meetings of CESLAC, thirty minutes of this meeting will be allocated for statements by members of the public. Individuals who are interested in making statements should inform Jack Fitzgerald of their interest by Thursday, October 2, and provide a copy of their statements for the record. Individuals will be scheduled in the order that their statements of intent to present are received. A minimum of three minutes will be provided for each statement. The maximum amount of time will depend on the number of statements to be made. All statements, regardless of whether there is sufficient time to present them orally, will be included in the record and considered by the committee. To request accommodation of a disability, please also contact Jack Fitzgerald, preferably at least ten days prior to the meeting, to give EPA as much time as possible to process your request.

Dated: September 10, 2008.
Jack Fitzgerald,
Designated Federal Officer.

[FR Doc. E8-21734 Filed 9-16-08; 8:45 am]

BILLING CODE 6560-50-P